DEPARTMENT OF TRANSPORTATION

Federal Railroad Administration

[Docket No. FRA-2020-0027-N-7]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before June 15, 2020.

ADDRESSES: Submit written comments on the ICRs activities by mail to either: Ms. Hodan Wells, Information Collection Clearance Officer, Office of Railroad Safety, Regulatory Analysis Division, Federal Railroad Administration, 1200 New Jersey Avenue SE, Washington, DC 20590; or Ms. Kim Toone, Information Collection Clearance Officer, Office of Administration, Office of Information Technology, Federal Railroad Administration, 1200 New Jersey Avenue SE, Washington, DC 20590. Commenters requesting FRA to acknowledge receipt of their respective comments must include a self-addressed stamped postcard stating, “Comments on OMB Control Number 2130-XXXX,” (the relevant OMB control number for each ICR is listed below) and should also include the title of the ICR. Alternatively, comments may be faxed to 202-493-6216 or 202-493-6497, or emailed to Ms. Wells at hodan.wells@dot.gov, or Ms. Toone at kim.toone@dot.gov. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Passenger Train Emergency Preparedness.

OMB Control Number: 2130-0545.

Abstract: Under 49 CFR part 239, FRA requires railroads to meet minimum Federal standards for the preparation, adoption, and implementation of emergency preparedness plans connected with the operation of passenger trains, including freight railroads hosting passenger rail service operations. The information collected is necessary for compliance with the regulation.

Type of Request: Extension with change (revised estimates) of a currently approved collection.

Affected Public: Businesses.

Form(s): N/A.

Respondent Universe: 34 railroads.

Frequency of Submission: On occasion.

Reporting Burden:

CFR section | Respondent universe | Total annual responses | Average time per responses | Total annual burden hours | Total cost equivalent ¹
239.13—Waivers | 34 railroads | 1 waiver petition | 10 hours | 10 hours | $760
239.101/201/203—Emergency preparedness plan: amended plans | 34 railroads | 6 amended plans | 16 hours | 96 hours | 7,296
—Non-substantive changes to emergency preparedness plan | 34 railroads | 4 amended plans | 1 hour | 4 hours | 304
—Emergency preparedness plans for new/start-up railroads | 34 railroads | 1 new plan | 80 hours | 80 hours | 6,080
239.101(a)(1)(ii)—RR designation of employees responsible for maintaining emergency phone numbers for use in contacting outside emergency responders and appropriate RR officials that a passenger emergency has occurred | 34 railroads | 34 designations | 5 minutes | 2.8 hours | 213
—Commuter/intercity passenger RRs gathering/keeping emergency phone numbers | 34 railroads | 34 lists/updated records | 1 hour | 34 hours | 2,584
239.101(a)(7)—RR dissemination of information regarding emergency procedures/instructions | 1 new railroad | 350 cards/1 safety message | 5 minutes | 29.3 hours | 2,227
| 34 railroads | 1,000 cards/100 safety messages | 5 minutes | 91.7 hours | 6,969
239.105(d)—Debrief and critique sessions | 34 railroads | 25 debrief/critique records | 5 minutes | 2.1 hours | 160
Total | 34 railroads | 1,556 | N/A | 350 hours | 26,592

Total Estimated Annual Responses: 1,556.

¹ The dollar equivalent cost throughout this document is derived from the Surface Transportation Board's Full Year Wage A&B data series using the appropriate employee group hourly wage rate that includes a 75-percent overhead charge.

Total Estimated Annual Burden: 350 hours.

Total Estimated Annual Burden Hour Dollar Cost Equivalent: $26,592.

Title: Critical Incident Stress Plans.

OMB Control Number: 2130-0602.

Abstract: Under 49 CFR part 272, Class I, intercity passenger, and commuter railroads are required to develop, and submit to FRA for approval, critical incident stress plans that provide for appropriate support services to be offered to their employees who are affected by a critical incident as defined in 49 CFR 272.9. FRA uses the information collected to ensure the minimum standards of part 272 are met.

Type of Request: Extension with change (revised estimates) of a currently approved collection.

Affected Public: Businesses/Rail Labor Unions.

Form(s): N/A.

Respondent Universe: 41 railroads.

Frequency of Submission: On occasion.

Reporting Burden:

CFR section | Respondent universe | Total annual responses | Average time per responses | Total annual burden hours | Total cost equivalent
272.103(a)—Railroad submission of critical incident stress plan (CISP) to FRA for approval | 1 new railroad | 1 plan | 12 hours | 12 hours | $912
—(b) RR CISP copy to 5 labor organizations | 41 railroads | 20 plan copies | 5 minutes | 1.7 hours | 129
—(c)(1) Rail labor organization comment to FRA on CISP submission | 5 employee labor organizations | 5 comments | 2 hours | 10 hours | 760
—(c)(2) Rail labor affirmative statement to FRA that comment copy has been served on railroad | 5 employee labor organizations | 5 certifications | 5 minutes | .4 hours | 30
—(e) Railroad submission of updated/modified existing CISP to FRA for approval | 41 railroads | 4 updated/modified plans | 6 hours | 24 hours | 1,824
—(f) Copy to RR employees of updated/modified CISP² | 41 railroads | 5,000 copies | 5 minutes | 416.7 hours | 31,669
—(g) Railroads make copies of CISP available to FRA inspector upon request | 41 railroads | 25 plan copies | 5 minutes | 2.1 hours | 160
272.105—Requirement to file CISP electronically | 41 railroads | 4 CISP electronic submissions | 8 minutes | .5 hours | 38
Total | 41 railroads | 5,064 responses | N/A | 467 hours | 35,522

Total Estimated Annual Responses: 5,064.

² FRA understands most railroads provide their CISP information to employees via a company portal or other electronic means, thus FRA reduced the estimate of actual physical copies to 5,000 to reflect that understanding.

Total Estimated Annual Burden: 467 hours.

Total Estimated Annual Burden Hour Dollar Cost Equivalent: $35,522.

Under 44 U.S.C. 3507(a) and 5 CFR 1320.5(b) and 1320.8(b)(3)(vi), FRA informs all interested parties that it may not conduct or sponsor, and a respondent is not required to respond to, a collection of information unless it displays a currently valid OMB control number.

(Authority: 44 U.S.C. 3501-3520)

Brett A. Jortland,
Acting Chief Counsel.

[FR Doc. 2020-07910 Filed 4-14-20; 8:45 am]

BILLING CODE 4910-06-P